DEPARTMENT OF COMMERCE

International Trade Administration

[C-570-931]

Circular Welded Austenitic Stainless Pressure Pipe from the People's Republic of China: Amended Notice of Postponement of Preliminary Determination in the Countervailing Duty Investigation

AGENCY: Import Administration, International Trade Administration, Department of Commerce.

EFFECTIVE DATE: April 4, 2008.

FOR FURTHER INFORMATION CONTACT: Kristen Johnson, AD/CVD Operations, Office 3, Import Administration, International Trade Administration, U.S. Department of Commerce, 14th Street and Constitution Avenue, NW, Washington, DC 20230; telephone (202) 482-4793.

SUPPLEMENTARY INFORMATION:

Background

On February 19, 2008, the Department of Commerce (Department) initiated the countervailing duty investigation of circular welded austenitic stainless pressure pipe from the People's Republic of China. See Circular Welded Austenitic Stainless Pressure Pipe from the People's Republic of China: Notice of Initiation of Countervailing Duty Investigation, 73 FR 9994 (February 25, 2008). Currently, the preliminary determination is due no later than April 24, 2008.

The version of the notice of postponement of the preliminary determination released on Thursday, March 27, 2008, stated that the deadline for completion of the final determination is June 30, 2008. The notice should have stated that the deadline for completion of the preliminary determination is June 30, 2008. This amended notice corrects that error. This error was discovered prior to publication of the notice in the Federal Register, consequently, this amendment is being published in its place.

Postponement of Due Date for Preliminary Determination

Section 703(b)(1) of the Tariff Act of 1930, as amended (the Act), requires the Department to issue the preliminary determination in a countervailing duty investigation within 65 days after the date on which the Department initiated the investigation. However, if the Department concludes that the parties concerned in the investigation are cooperating and determines that the investigation is extraordinarily complicated, section 703(c)(1)(B) of the Act allows the Department to postpone making the preliminary determination until no later than 130 days after the date on which the administering authority initiated the investigation.

The Department is currently investigating alleged subsidy programs involving loans, grants, income tax incentives, and the provision of goods or services for less than adequate remuneration. Due to the number and complexity of the alleged countervailable subsidy practices being investigated, it is not practicable to complete the preliminary determination of this investigation within the original time limit (i.e., by April 24, 2008). Therefore, in accordance with section 703(c)(1)(B) of the Act, we are fully extending the due date for the preliminary determination to no later than 130 days after the day on which the investigation was initiated. However, as that date falls on a Saturday, the deadline for completion of the preliminary determination is now June 30, 2008, the next business day.

This notice is issued and published pursuant to section 703(c)(2) of the Act.

Dated: April 1, 2008.
Stephen J. Claeys,
Acting Assistant Secretary for Import Administration.

[FR Doc. E8-7100 Filed 4-3-08; 8:45 am]

BILLING CODE 3510-DR-S